NATIONAL SCIENCE FOUNDATION

Advisory Committee for STEM Education; Notice of Meeting

In accordance with the Federal Advisory Committee Act (Pub. L. 92-463, as amended), the National Science Foundation (NSF) announces the following meeting:

Name and Committee Code: Advisory Committee for STEM Education (#1119) (Hybrid).

Date and Time: Wednesday, November 13, 2024; 9 a.m.-5:10 p.m. (CST).

Thursday, November 14, 2024; 9 a.m.-2:00 p.m. (CST).

Place: Louisiana Tech University, Davison Athletic Complex (DAC), 1454 West Alabama, Avenue, Ruston, LA 71270.

Visitors may attend virtually or in person. To attend the meeting, all visitors must register at least 48 hours prior to the meeting: https://nsf.zoomgov.com/webinar/register/WN_DEJ45T_NRniLvEzhm933Hw.

The final meeting agenda for the meeting will be posted to: EDU—Advisory Committee | NSF—National Science Foundation.

Type of Meeting: Open.

Contact Person: Mr. Keaven M. Stevenson, National Science Foundation, 2415 Eisenhower Avenue, Room C11001, Alexandria, VA 22314; Telephone: (703) 292-8600, Email: (kstevens@nsf.gov).

Summary of Minutes: Minutes and meeting materials will be available on the EDU Advisory Committee website at EDU—Advisory Committee | NSF—National Science Foundation or can be obtained from Dr. Bonnie A. Green, National Science Foundation, 2415 Eisenhower Avenue, Room C11000, Alexandria, VA 22314; Telephone: (703) 292-8600, Email: (bongreen@nsf.gov).

Purpose of Meeting: To provide advice with respect to the Foundation's science, technology, engineering, and mathematics (STEM) education and workforce development programming.

Agenda

Meeting Theme: Advancing STEM Education and Workforce Opportunities in the Delta and Surrounding Regions: Mississippi, Arkansas, and Louisiana.

Day 1: Wednesday, November 13, 2024, 9:00 a.m. to 5:10 p.m. (CST)

• Welcoming Remarks

• Session 1: Understanding NSF Funding for Education and Workforce Development Across the Delta and Surrounding Region

• Session 2: Leveraging Partnerships to Advance STEM Innovation and Workforce Goals

• Session 3: Student Voices from the Delta and Surrounding Region

• Session 4: EDU Funded Principal Investigators across the Delta and Surrounding Region

• Closing Session

Day 2: Thursday, November 14, 2024, 9:00 a.m. to 2:00 p.m. (CST)

• Opening Session

• Session 5: Division of Equity for Excellence in STEM Committee of Visitors Report

• Session 6: Illuminating a Future for STEM Education and Workforce Development in the Delta and Surrounding Region

• Preparation for Meeting with NSF's Chief Scientific Officer

• Meet with NSF's Chief Scientific Officer

• Closing Session

Dated: September 27, 2024.
Crystal Robinson,
Committee Management Officer.

[FR Doc. 2024-22713 Filed 10-1-24; 8:45 am]

BILLING CODE 7555-01-P